ENVIRONMENTAL PROTECTION AGENCY

[FRL-9931-96-ORD; Docket ID No. EPA-HQ-ORD-2013-0620 and Docket ID No. EPA-HQ-OAR-2014-0128]

Workshop To Review Initial Draft Materials for the Nitrogen Oxides (NOX) and Sulfur Oxides (SOX) Integrated Science Assessment (ISA) for Ecological Effects

AGENCY: Environmental Protection Agency (EPA).

ACTION: Notice of workshop.

SUMMARY: As part of the review of the air quality criteria for nitrogen oxides (NOX) and sulfur oxides (SOX) secondary (welfare-based) National Ambient Air Quality Standards (NAAQS), the Environmental Protection Agency (EPA) is announcing a teleconference workshop to evaluate preliminary draft materials that will inform the development of the NOX and SOX Integrated Science Assessment (ISA) for ecological effects. The workshop is being organized by EPA's National Center for Environmental Assessment (NCEA) within the Office of Research and Development and will be held by teleconference from August 25-27, 2015. The workshop will be open to attendance by interested public observers on a first-come, first-served basis and participation will be by teleconference only.

DATES: The workshop will be held on Tuesday, August 25, 2015, beginning at 1:30 p.m. and ending at 4 p.m.; Wednesday, August 26, 2015, beginning at 1 p.m. and ending at 4 p.m.; and Thursday, August 27, 2015, beginning at 11:30 a.m. and ending at 2 p.m.

ADDRESSES: The workshop will be held by teleconference and webinar. The call in number and Web site information for the teleconference are available to registered participants. Please register by going to https://nox-sox-eco-criteria-webinars.eventbrite.com.

FOR FURTHER INFORMATION CONTACT: Please direct questions regarding workshop registration or logistics to Canden Byrd at EPA_NAAQS_Workshop@icfi.com or by phone at (919) 293-1660. Questions regarding the scientific and technical aspects of the workshop should be directed to Dr. Tara Greaver; telephone: 919-541-2435; facsimile: 919-541-1818; or email: greaver.tara@epa.gov.

SUPPLEMENTARY INFORMATION:

I. Information About the Workshop

Section 109(d) of the Clean Air Act (CAA) requires the U.S. EPA to conduct periodic reviews of the air quality criteria for each air pollutant listed under section 108 of the Act. Based on such reviews, EPA is to retain or revise the NAAQS for a given pollutant as appropriate. As part of these reviews, NCEA assesses newly available scientific information and develops ISA documents (formerly known as Air Quality Criteria Documents) that provide the scientific basis for the reviews of the NAAQS.

NCEA is holding this workshop to inform the Agency's evaluation of the scientific evidence for the review of the secondary NAAQS for NO2 and SO2. Section 109(b)(2) of the CAA defines secondary NAAQS must, “specify a level of air quality the attainment and maintenance of which, in the judgment of the Administrator, based on such criteria, is requisite to protect the public welfare from any known or anticipated adverse effects associated with the presence of [the] pollutant in the ambient air.” The purpose of the workshop is to obtain review of the scientific content of preliminary draft materials that will inform the development of the draft ecological effects ISA. Workshop sessions will include review and discussion of preliminary draft materials on the atmospheric chemistry, including air quality/deposition, biogeochemistry, terrestrial acidification, terrestrial eutrophication, freshwater acidification, freshwater eutrophication, marine eutrophication, and ecosystem services. In addition, roundtable discussions will help identify key studies or concepts within each discipline to assist EPA in integrating relevant literature within and across disciplines. These preliminary materials are not being released as an external draft, but will be used to guide workshop discussions and inform the development of the draft ecological effects ISA. This workshop is planned to help ensure that the ISA, once developed, is up-to-date and focuses on the key evidence to inform the scientific understanding for the review of the NOX and SOX secondary NAAQS. EPA is planning to release the first external review draft ecological effects ISA for NOX and SOX for review by the Clean Air Scientific Advisory Committee and the public during the first quarter of 2016.

II. Workshop Information

Members of the public may attend the teleconference as observers. Space in the teleconference may be limited, and reservations will be accepted on a first-come, first-served basis. Registration for the workshop is available online at https://nox-sox-eco-criteria-webinars.eventbrite.com.

Dated: August 5, 2015.
Mary A. Ross,
Deputy Director, National Center for Environmental Assessment.

[FR Doc. 2015-19842 Filed 8-11-15; 8:45 am]

BILLING CODE 6560-50-P